DEPARTMENT OF LABOR

Employment and Training Administration

[TA-W-65,572]

BHp Billiton, BHP Copper, Inc., Pinto Valley Operations & San Manuel Arizona Railroad Company, Miami, AZ; Notice of Termination of Investigation

Pursuant to Section 221 of the Trade Act of 1974, as amended, an investigation was initiated on March 12, 2009 in response to a petition filed by a company official on behalf of the workers at BHp Billiton, BHP Copper, Inc., Pinto Valley Operations & San Manuel Arizona Railroad Company, Miami, Arizona.

The petitioning group of workers is covered by an earlier petition TA-W-65,447 filed on February 27, 2009 that is the subject of an ongoing investigation for which a determination has not yet been issued. Further investigation in this case would duplicate efforts and serve no purpose; therefore, the investigation under this petition has been terminated. Consequently, the investigation has been terminated.

Signed at Washington, DC, this 12th day of March 2009.
Richard Church,
Certifying Officer, Division of Trade Adjustment Assistance.

[FR Doc. E9-6289 Filed 3-23-09; 8:45 am]

BILLING CODE 4510-FN-P